DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new, modified, discontinued, or completed since the last publication of this notice on January 21, 2000. The January 21, 2000, notice should be used as a reference point to identify changes. This annual notice should be used as a point of reference to identify changes in future notices. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2000. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

(BON) Basis of Negotiation

(BCP) Boulder Canyon Project

(CAP) Central Arizona Project

(CUP) Central Utah Project

(CVP) Central Valley Project

(CRSP) Colorado River Storage Project

(D&MC) Drainage and Minor Construction

(FR) Federal Register

(IDD) Irrigation and Drainage District

(ID) Irrigation District

(M&I) Municipal and Industrial

(NEPA) National Environmental Policy Act

(O&M) Operation and Maintenance

(P-SMBP) Pick-Sloan Missouri Basin Program

(PPR) Present Perfected Right

(RRA) Reclamation Reform Act

(R&B) Rehabilitation and Betterment

(SOD) Safety of Dams

(SRPA) Small Reclamation Projects Act

(WCUA) Water Conservation and Utilization Act

(WD) Water District

Pacific Northwest Region: Bureau of Reclamation, 1150 North Curtis Road, Suite 100, Boise, Idaho 83706-1234, telephone 208-378-5346.

Modified Contract Action

4. Pioneer Ditch Company, Boise Project, Idaho; Clark and Edwards Canal and Irrigation Company, Enterprise Canal Company, Ltd., Lenroot Canal Company, Liberty Park Canal Company, Parsons Ditch Company, Poplar ID, Wearyrick Ditch Company, all in the Minidoka Project, Idaho; Juniper Flat District Improvement Company, Wapinitia Project, Oregon: Amendatory repayment and water service contracts; purpose is to conform to the RRA (Public Law 97-293).

Discontinued Contract Action

10. Five individual contractors, Umatilla Project, Oregon: Repayment agreements for reimbursable cost of dam safety repairs to McKay Dam. Agreements not needed, contractors are being billed for reimbursement.

Completed Contract Action

4. Pioneer Ditch Company, Boise Project, Idaho; Clark and Edwards Canal and Irrigation Company, Enterprise Canal Company, Ltd., Lenroot Canal Company, Liberty Park Canal Company, Parsons Ditch Company, Poplar ID, Wearyrick Ditch Company, all in the Minidoka Project, Idaho; Juniper Flat District Improvement Company, Wapinitia Project, Oregon; Roza ID, Yakima Project, Washington: Amendatory repayment and water service contracts; purpose is to conform to the RRA (Public Law 97-293). Contract with Roza ID executed February 14, 2000.

Mid-Pacific Region: Bureau of Reclamation, 2800 Cottage Way, Sacramento, California 95825-1898, telephone 916-978-5250.

New Contract Actions

36. Townsend Flat Ditch Company or its shareholders, Centerville Community Services District and McConnell Foundation, CVP, California: Proposed exchange contract for 6,000 acre-feet of water in relation to the Clear Creek restoration and fish passage program in Section 3406(b)(12) of the Central Valley Project Improvement Act.

37. Colusa County WD, CVP, California: Proposed long-term Warren Act contract for conveyance of up to 4,500 acre-feet of ground water through the Tehama-Colusa Canal.

Discontinued Contract Actions

22. Widren WD, CVP, California: Assignment of 2,940 acre-feet of Widren WD's water service contract to the City of Tracy. The assignment will require approval of conversion of the District's CVP irrigation water to M&I.

23. Warren Act Contracts, CVP, California: Execution of long-term Warren Act contracts with various entities for conveyance of non-project water in the Delta-Mendota Canal.

Lower Colorado region: Bureau of Reclamation, PO Box 61470 (Nevada Highway and Park Street), Boulder City, Nevada 89006-1470, telephone 702-293-8536.

New Contract Actions

58. San Carlos-Apache Tribe, CAP, Arizona: Agreement among the United States, Salt River Project Agricultural Improvement and Power District, and Salt River Valley Water Users' Association for exchange of up to 14,000 acre-feet of Black River Water for CAP water.

59. San Carlos-Apache Tribe, Arizona: Agreement among the San Carlos-Apache Tribe, the United States, and Phelps Dodge Corporation for the lease of Black River Water.

60. Arizona Water Banking Authority and Southern Nevada Water Authority, BCP, Arizona and Nevada: Contract to provide for the interstate contractual distribution of Colorado River water through the offstream storage of Colorado River water in Arizona, the development by the Arizona Water Banking Authority of intentionally created unused apportionment, and the release of this intentionally created unused apportionment by the Secretary of the Interior to Southern Nevada Water Authority.

Discontinued Contract Action

55. Cibola Valley IDD, BCP, Arizona: Amendment to the District's Colorado River water delivery contract to permanently reduce the District's water entitlement by approximately 600 acre-feet per year to facilitate the transfer of such water to a golf course development in the Lake Havasu area. New or amendatory Colorado River water delivery contract with the entitlement holder for the transferred water.

Completed Contract Actions

34. Bureau of Land Management, BCP, California: Agreement for 1,000 acre-feet per year of Colorado River water in accordance with Secretarial Reservation.

54. Miscellaneous PPR No.11, BCP, California: Assign the contract from Dickman et al. to Sonny Gowan.

Upper Colorado Region: Bureau of Reclamation, 125 South State Street, Room 6107, Salt Lake City, Utah 84138-1102, telephone 801-524-4419.

Completed Contract Action

1. Individual irrigators, M&I, and miscellaneous water users, Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(f) Margarett W. Furey, Wayne N. Aspinall Unit, CRSP, Colorado: Contract for 1 acre-foot to support augmentation plan. R&D Investment has filed an application with the Division 4 Water Court of the State of Colorado seeking decree for a domestic well to serve the Ms. Furey domestic in-house residential use, lawn and garden irrigation, pond evaporation, and stock watering.

Great Plains Region: Bureau of Reclamation, PO Box 36900, Federal Building, 316 North 26th Street, Billings, Montana 59107-6900, telephone 406-247-7730.

New Contract Actions

37. North Fork Valley Ditch (Individual), Shoshone Project, Buffalo Bill Dam, Wyoming: Exchange water service contract not to exceed 1,000 acre-feet of water to service 855 acres.

38. Virginia L. and Earl K. Sauerwein (Individual), Shoshone Project, Buffalo Bill Dam, Wyoming: Exchange water service contract not to exceed 100 acre-feet of water to service 126 acres.

39. Denise J. Evans (Individual), Shoshone Project, Buffalo Bill Dam, Wyoming: Exchange water service contract not to exceed 100 acre-feet of water to service 48.5 acres.

40. Glendo Unit, P-SMBP, Wyoming: Initiate negotiations for renewal of long-term water service contracts for Burbank Ditch, New Grattan Ditch Company, Torrington ID, Lucerne Canal and Power Company, and Wright and Murphy Ditch Company.

41. Glendo Unit, P-SMBP, Nebraska.: Initiate negotiations for renewal of long-term water service contracts for Bridgeport, Enterprise, and Mitchell ID, and Central Nebraska Public Power and Irrigation District.

Modified Contract Actions

7. Northern Cheyenne Indian Reservation, Yellowtail Unit, Lower Bighorn Division, P-SMBP, Montana: The Northern Cheyenne Reserved Water Rights Settlement Act of 1992 allocates to the Tribe, 30,000 acre-feet of water per year stored at Bighorn Reservoir, Montana. In accordance with section 9 of the Act, Reclamation and the Tribe must negotiate a management agreement for the water. The Tribe is to pay the United States both capital and O&M costs for water the Tribe uses or sells from this storage for M&I purposes. Reclamation and the Tribe are continuing to negotiate the terms of the Agreement. A date for execution has not been scheduled.

9. Angostura ID, Angostura Unit, P-SMBP, South Dakota: The District had a contract for water service which expired on December 31, 1995. An interim 3-year contract provided for a continuing water supply and the District to operate and maintain the dam and reservoir. The proposed long-term contract would provide a continued water supply for the District and the District's continued O&M of the facility. A BON for another 3-year interim contract has been submitted for approval.

11. P-SMBP, Kansas and Nebraska: Anticipate executing renewal of long-term water supply contracts with Kansas-Bostwick, Nebraska-Bostwick, Frenchman Valley, Frenchman-Cambridge, and Almena IDs by the end of July 2000. The renewed long-term water service contracts will take effect January 1, 2001.

14. P-SMBP, Kansas: Water service contracts with the Kirwin and Webster IDs in the Solomon River Basin in Kansas will be extended for a period of 4 years in accordance with Public Law 104-326 enacted October 19, 1996. Water service contracts will be renewed prior to expiration. The 4-year contract extension for Kirwin ID has been executed.

21. Lower Marias Unit, P-SMBP, Montana: Water service contract expired June 1997. Initiating renewal of existing contract for 25 years for up to 480 acre-feet of storage from Tiber Reservoir to irrigate 160 acres. Received approved BON from the Commissioner. Currently developing the contract and consulting with the Tribes regarding the Water Rights Compact. A 1-year interim contract has been issued to continue delivery of water until the necessary actions can be completed to renew a long-term contract. Another 1-year interim contract will be issued to continue the delivery of water until the long-term renewal process can be completed.

22. Lower Marias Unit, P-SMBP, Montana: Initiating 25-year water service contract for up to 750 acre-feet of storage from Tiber Reservoir to irrigate 250 acres. A 1-year temporary contract has been issued to allow additional time to complete necessary actions required for the long-term contract. Another 1-year temporary contract will be issued to continue the delivery of water until the long-term renewal process can be completed.

23. Lower Marias Unit, P-SMBP, Montana: Water service contract expired May 31, 1998. Initiating renewal of the long-term water service contract to provide 4,570 acre-feet of storage from Tiber Reservoir to irrigate 2,285 acres. A 1-year interim contract has been issued to continue delivery of water until the necessary actions can be completed to renew the long-term contract. Another 1-year temporary contract will be issued to continue the delivery of water until the long-term renewal process can be completed.

25. Savage ID, P-SMBP, Montana: An interim contract has been entered into with the District. The District is currently seeking title transfer. The contract is subject to renewal on an annual basis pending outcome of the title transfer process. A second interim contract will be entered into with the District pending possible long-term renewal of the water service portion of the contract.

34. Tom Green County and Improvement District No. 1, San Angelo Project, Texas: The irrigation district is requesting a deferment of its 2000 construction payment. A BON has been submitted for approval.

Completed Contract Action

14. P-SMBP, Kansas: Water service contracts with the Kirwin and Webster IDs in the Solomon River Basin in Kansas will be extended for a period of 4 years in accordance with Public Law 104-326 enacted October 19, 1996. Water service contracts will be renewed prior to expiration. The 4-year contract extension for Kirwin ID has been executed.

Dated: April 12, 2000.
Wayne O. Deason,
Associate Director, Office of Policy.

[FR Doc. 00-9739 Filed 4-18-00; 8:45 am]

BILLING CODE 4310-94-P